NUCLEAR REGULATORY COMMISSION

[Docket No. 72-27]

Notice of Docketing and Issuance of Amendment to Materials License SNM-2514; Pacific Gas and Electric Company; Humboldt Bay Independent Spent Fuel Storage Installation

AGENCY: Nuclear Regulatory Commission.

ACTION: Notice of Issuance of Amendment to Materials License SNM-2514.

FOR FURTHER INFORMATION CONTACT: James R. Hall, Senior Project Manager, Division of Spent Fuel Storage and Transportation, Office of Nuclear Material Safety and Safeguards, Mail Stop EBB-3D-02M, U.S. Nuclear Regulatory Commission, Washington, DC 20555-0001. Telephone: (301) 492-3319; e-mail: randy.hall@nrc.gov.

SUPPLEMENTARY INFORMATION: On November 17, 2005, the U.S. Nuclear Regulatory Commission (NRC or the Commission) issued NRC Materials License No. SNM-2514 to the Pacific Gas and Electric Company (PG&E) for the Humboldt Bay Independent Spent Fuel Storage Installation (ISFSI), located in Humboldt County, California. The license authorizes PG&E to receive, possess, store, and transfer spent nuclear fuel and associated radioactive materials resulting from the operation of the Humboldt Bay Power Plant in an ISFSI at the power plant site for a term of 20 years. The NRC staff also issued an Environmental Assessment and Finding of No Significant Impact related to the issuance of the initial ISFSI license on November 16, 2005, in accordance with the National Environmental Policy Act, and in conformance with the applicable requirements of 10 CFR part 51.

On March 5, 2008, PG&E submitted an application to NRC, in accordance with 10 CFR Part 72, requesting an amendment to NRC Materials License No. SNM-2514. PG&E's license amendment request proposes to revise the minimum initial fuel enrichment limit identified in the Technical Specifications (TS), so that all of the fuel assemblies currently stored in the plant's spent fuel pool may be transferred and stored in the ISFSI, as intended. Specifically, PG&E identified a discrepancy in the minimum initial fuel enrichment limit listed in TS Table 2.1-1, “MPC-HB-HB Fuel Assembly Limits,” during its documentation verification review in preparation for loading spent fuel into dry storage casks at the ISFSI. The current license allows PG&E to store in the ISFSI spent fuel assemblies that have a minimum initial fuel enrichment of 2.09 wt-percent Uranium 235 (U-235). Humboldt Bay, however, has some spent fuel assemblies that have an initial fuel enrichment of 2.08 wt-percent U-235. NRC approval of the proposed change is required so that PG&E can store those fuel assemblies with an initial enrichment of 2.08 wt-percent U-235 in the Humboldt Bay ISFSI.

Pursuant to 10 CFR 72.46, the NRC has docketed, approved and issued Amendment No. 1 to Materials License No. SNM-2514 held by PG&E for the receipt, possession, transfer, and storage of spent fuel at the Humboldt Bay ISFSI. Amendment No. 1 authorizes the storage of spent fuel assemblies with an initial enrichment of 2.08 wt-percent U-235 in the Humboldt Bay ISFSI. Amendment No. 1 is effective as of the date of issuance.

Amendment No. 1 complies with the standards and requirements of the Atomic Energy Act of 1954, as amended (the Act), and the Commission's rules and regulations. The Commission has made appropriate findings, as required by the Act and the Commission's rules and regulations in 10 CFR Chapter I, which are set forth Amendment No. 1. The issuance of Amendment No. 1 satisfied the criteria specified in 10 CFR 51.22(c)(11) for a categorical exclusion. Thus, the preparation of an environmental assessment or an environmental impact statement is not required.

In accordance with 10 CFR 72.46(b)(2), the NRC has determined that Amendment No. 1 does not present a genuine issue as to whether public health and safety will be significantly affected. Therefore, the publication of a notice of proposed action and an opportunity for hearing or a notice of hearing is not warranted. Notice is hereby given of the right of interested persons to request a hearing on whether the action should be rescinded or modified.

Further Information

For further details with respect to this action, see the application dated March 5, 2008, and Amendment No. 1, which are available electronically, at NRC's Electronic Reading Room, at: http://www.nrc.gov/reading-rm/adams.html. From this site, you can access NRC's Agencywide Document Access and Management System (ADAMS), which provides text and image files of NRC's public documents. The ADAMS accession number for the application is ML080710491 and the ADAMS accession number for Amendment No. 1 is ML082030222. If you do not have access to ADAMS, or if there are problems in accessing the documents located in ADAMS, contact NRC's Public Document Room (PDR) Reference staff at 1-800-397-4209, 301-415-4737, or by e-mail to pdr.resource@nrc.gov.

These documents may also be viewed electronically on the public computers located at NRC's PDR, O1-F21, One White Flint North, 11555 Rockville Pike, Rockville, MD 20852. The PDR reproduction contractor will copy documents, for a fee.

Dated at Rockville, Maryland, this 6th day of August, 2008.
For the Nuclear Regulatory Commission.
James R. Hall,
Senior Project Manager, Licensing Branch, Division of Spent Fuel Storage and Transportation, Office of Nuclear Material Safety and Safeguards.

[FR Doc. E8-18702 Filed 8-12-08; 8:45 am]

BILLING CODE 7590-01-P